DEPARTMENT OF HEALTH AND HUMAN SERVICES

National Institutes of Health

Office of Biotechnology Activities; Office of Science Policy; Office of the Director; Notice of a Meeting of the NIH Blue Ribbon Panel

The purpose of this notice is to inform the public about a meeting of the NIH Blue Ribbon Panel to Advise on the Risk Assessment of the National Emerging Infectious Diseases Laboratories at Boston University Medical Center. The meeting will be held on Wednesday, April 28, 2010, at the Boston Marriott Copley Place, 110 Huntington Avenue, Boston, Massachusetts 02116 from approximately 6:30 p.m. to 9:45 p.m.

The Blue Ribbon Panel is holding a public meeting to update the community on the status and proposed approach of the study. The meeting program will include presentations providing an overview of the risk assessment process, as well as breakout sessions in which more detailed presentations and dialogue about the proposed approach will take place.

Members of the public may, at any time, file written comments to the following address: NIH Blue Ribbon Panel, Office of the Director, National Institutes of Health, Mail Stop Code 7985, Bethesda, MD 20892-7985 or by sending an e-mail to: nih_brp@od.nih.gov.

An agenda and slides for the meeting may be obtained prior to the meeting by connecting to http://nihblueribbonpanel-bumc-neidl.od.nih.gov/. For additional information concerning this meeting, please contact Ms. Laurie Lewallen, Advisory Committee Coordinator, Office of Biotechnology Activities, Office of Science Policy, Office of the Director, National Institutes of Health, 6705 Rockledge Drive, Room 750, Bethesda, MD 20892-7985; telephone 301-496-9838; e-mail lewallenl@od.nih.gov.

Dated: March 24, 2010.
Amy P. Patterson,
Director, Office of Biotechnology Activities, National Institutes of Health.

[FR Doc. 2010-6970 Filed 3-29-10; 8:45 am]

BILLING CODE 4140-01-P